DEPARTMENT OF DEFENSE

Office of the Secretary

Meeting of the DoD Healthcare Quality Initiative Review Panel

AGENCY: Department of Defense.

ACTION: Notice.

SUMMARY: On October 26, 2000, the DoD Healthcare Quality Initiatives Review Panel published a notice of an upcoming meeting (65 FR 64204). This notice is being published to change the meeting dates due to the Federal holiday on November 10th.

DATES: November 8 & 9, 2000.

ADDRESSES: Sheraton Crystal City, 1800 Jefferson Davis Hwy, Arlington, VA 22202.

TIME: November 8th, 8 am to 5:30 pm; November 9th, 8 am to 5:30 pm.

FOR FURTHER INFORMATION CONTACT: Contact Gia Edmonds at (703) 933-8325.

Dated: October 30, 2000.
L.M. Bynum,
Alternate OSD Federal Register Liaison Officer, Department of Defense.

[FR Doc. 00-28321 Filed 11-3-00; 8:45 am]

BILLING CODE 5001-10-M